DEPARTMENT OF AGRICULTURE

Agricultural Marketing Service

[Docket Number: FV-02-331]

United States Standards for Grades of Canned Apples

AGENCY: Agricultural Marketing Service, USDA.

ACTION: Notice; withdrawal.

SUMMARY: The Agricultural Marketing Service (AMS) published a notice soliciting comments on its proposed revision to change the United States Standards for Grades of Canned Apples. Specifically, AMS proposed to lower the recommended drained weight for canned apples packed in No. 10 cans. After reviewing the Agency has decided to withdraw the proposal and terminate the action.

EFFECTIVE DATE: April 15, 2002.

FOR FURTHER INFORMATION CONTACT: Randle A. Macon, Processed Products Branch, Fruit and Vegetable Programs, Agricultural Marketing Service, U.S. Department of Agriculture, Room 0709, South Building; STOP 0247, 1400 Independence Avenue SW; Washington, DC. 20250; faxed to (202) 690-1527; or e-mailed to Randle.Macon@usda.gov. The United States Standards for Canned Apples is available either through the address cited above or by accessing the AMS Home Page on the Internet at http://www.ams.usda.gov/fv/ppb.html.

SUPPLEMENTARY INFORMATION:

Background

AMS received petitions from Independent Food Processors Company of Sunnyside, Washington; and Snokist Growers of Yakima, Washington, requesting the revision of the United States Standards for Grades of Canned Apples. The two petitioners represent a significant part of the Pacific Northwest apple industry. The Pacific Northwest apple industry provides almost half of the apples produced domestically.¹

¹ Source—USDA, NASS, ASB.

The petitions stated that the recommended drained weight of 96 ounces for apples packed in No. 10 size cans, in the U.S. Standards for Grades of Canned Apples, was difficult to obtain and places the Pacific Northwest processors at an economic disadvantage in bidding for government and non-government contracts. The reasons given for this disparity were that the varietal types of apples and the growing conditions in the Northwest region are different from other apple producing regions around the country.

The petitioners also stated that to meet the standard when packing certain varieties of apples, the cans are over-filled. This condition may cause damage to the sliced apples which may cause the slices to be graded as less than “Grade A.”

Petitioners went on to state that to meet USDA recommended requirements for drained weight, some processors may be required to put more product into the can, causing economic hardship, damage to the product, and sometimes loss of the integrity of the can seal. If the seal's integrity was lost during processing, the product's wholesomeness was jeopardized.

USDA reviewed the petitions and data submitted, and had gathered additional information from relevant government agencies and industry sources including growers, processors, and buyers. Based on this information, USDA found that there may be a disparity between the drained weights for canned apples from Pacific Northwest processors and those from other sections of the country.

The Department therefore proposed to lower the recommended drained weight for apples packed No. 10 size cans, from 96 ounces to 92 ounces in the U.S. Standards for Grades of Canned Apples.

Based on that information, the USDA published a notice in the Federal Register, on December 24, 1997 (62 FR 67326), proposing to revise the U.S. Standards for Grades of Canned Apples by lowering the recommended drained weight for sliced apples packed in No. 10 size cans, from 96 ounces to 92 ounces.

A 60 day comment period was provided for interested persons to send in comments on this recommended change to the Standards. The USDA received 19 comments responding to the notice from a wide range of sources, including trade associations, government agencies, and manufacturers. There were also comments from members of Congress which were received after the 60 day comment period had closed.

Commenters responding in favor of lowering the recommended drained weight for sliced apples packed in No. 10 size cans from 96 ounces to 92 ounces, stated that this change was necessary because the current U.S. standards puts Pacific Northwest processors at an economic disadvantage in bidding for government and non-government contracts. The reason given was that the varietal types of apples and the growing conditions in the Northwest region are different from other apple producing regions around the country. The Pacific Northwest varieties are high quality larger and firmer apples that do not pack down in the can as well as the smaller variety apples from other growing areas regardless of cut. The commenters state that to meet the standard when packing No. 10 size containers, the cans are over-filled. This condition causes damage to the sliced apples upon closure of the can which may cause the slices to be graded as less than “Grade A.” This over-filled condition may lead to loss of the integrity of the can seal. If the seal's integrity is lost during processing, the product's wholesomeness is jeopardized.

Another commenter, in favor of the change, stated that in order for Pacific Northwest apple processors to meet the recommended drained weight for sliced apples packed in No. 10 size cans, they would have to use smaller and softer (lower quality) apples when packing this product.

Of the opposing comments received, there was one central concern that was raised by most of the commenters. Most asserted that lowering the recommended drained weight for sliced apples packed in No. 10 size cans, from 96 ounces to 92 ounces, will lead to inferior quality sliced apples being utilized resulting in a negative impact on the sliced apple market. This, in turn would cause a decrease in apple consumption by the consumer.

The comments from members of Congress, which were received after the 60 day comment period had closed, echoed the same concern that lowering the recommended drained weight for sliced apples packed in No. 10 size cans, from 96 ounces to 92 ounces, would lead to inferior quality sliced apples being utilized. This action could also result in job and production losses.

One commenter stated that lowering the recommended drained weight for sliced apples packed in No. 10 size cans, might cause processors outside of the Pacific Northwest to produce canned sliced apples that will seem not completely filled or slack filled which will also result in a negative consumer reaction. At the same time, Pacific Northwest packs might be viewed as superior because the cans are always full.

The comments reflect a diverse spectrum of views on both sides of the issue as well as considerable opposition within the industry, to the proposed amendments. After reviewing and considering the comments, The Department has decided not to proceed with this action, but will consider any additional views or recommendations from the industry. Therefore, the proposed revision as published in the December 24, 1997, notice is withdrawn.

Dated: April 9, 2002.
A.J. Yates,
Administrator, Agricultural Marketing Service.

[FR Doc. 02-9053 Filed 4-12-02; 8:45 am]

BILLING CODE 3410-02-P